JUDICIAL CONFERENCE OF THE UNITED STATES

Meeting of the Judicial Conference Committee on Rules of Practice and Procedure.

AGENCY: Judicial Conference of the United States, Advisory Committee on Rules of Bankruptcy Procedure.

ACTION: Notice of Open Meeting.

SUMMARY: The Advisory Committee on Rules of Bankruptcy Procedure will hold a two-day meeting. The meeting will be open to public observation but not participation.

DATES: April 20-21, 2015.

TIME: 8:30 a.m. to 5:00 p.m.

ADDRESSES: United States Court of Appeals for the Ninth Circuit, The Richard H. Chambers Courthouse, 125 South Grand Avenue, Pasadena, California 91105.

FOR FURTHER INFORMATION CONTACT: Jonathan C. Rose, Rules Committee Secretary, Rules Committee Support Office, Administrative Office of the United States Courts, Washington, DC 20544, telephone (202) 502-1820.

Dated: January 23, 2015.
Jonathan C. Rose,
Rules Committee Secretary.

[FR Doc. 2015-01560 Filed 1-27-15; 8:45 am]

BILLING CODE 2210-55-P